FEDERAL COMMUNICATIONS COMMISSION

47 CFR Part 73

[DA 08-2345; MB Docket No. 08-67; RM-11426]

Radio Broadcasting Services; La Grande and Prairie City, OR

AGENCY: Federal Communications Commission.

ACTION: Final rule.

SUMMARY: In response to Petition for Rule Making filed by KSRV, Inc., licensee of Station KWRL, Channel 225C1, La Grande, Oregon, this document substitutes Channel 272C for vacant Channel 260C at Prairie City, Oregon. This substitution will enable Station KWRL to continue operation on Channel 260C1. This document also dismisses a Counterproposal filed by Pacific Empire Radio Corporation. The reference coordinates for the Channel 272C allotment at Prairie City, Oregon, are 45-07-21 and 117-46-44. With this action, this proceeding is terminated.

DATES: Effective December 8, 2008.

FOR FURTHER INFORMATION CONTACT: Robert Hayne, Media Bureau (202) 418-2177.

SUPPLEMENTARY INFORMATION: This is a synopsis of the Report and Order in MB Docket No. 08-67, adopted October 22, 2008, and released October 24, 2008. The full text of this decision is available for inspection and copying during normal business hours in the FCC Reference Information Center at Portals ll, CY-A257, 445 12th Street, SW., Washington, DC 20554. The complete text of this decision may also be purchased from the Commission's copy contractor, Best Copying and Printing, Inc. 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202(b) [Amended]

2. Section 73.202(b), the Table of FM Allotments under Oregon, is amended by removing Channel 260C and adding Channel 272C at Prairie City.

Federal Communications Commission.
John A. Karousos,
Assistant Chief, Audio Division, Media Bureau.

[FR Doc. E8-26739 Filed 11-7-08; 8:45 am]

BILLING CODE 6712-01-P